NATIONAL CREDIT UNION ADMINISTRATION

Sunshine Act; Notice of Agency Meeting

TIME AND DATE: 1 p.m., Monday, August 29, 2011.

PLACE: Board Room, 7th Floor, Room 7047, 1775 Duke Street (All visitors must use Diagonal Road Entrance), Alexandria, VA 22314-3428.

STATUS: Open.

MATTERS TO BE CONSIDERED: 1. Proposed Rule—Part 704 of NCUA's Rules and Regulations, Corporate Credit Unions.

2. NCUA Guaranteed Notes Maintenance.

3. Temporary Corporate Credit Union Stabilization Fund Assessment.

RECESS: 1:45 p.m.

TIME AND DATE: 2 p.m., Monday, August 29, 2011.

PLACE: Board Room, 7th Floor, Room 7047, 1775 Duke Street, Alexandria, VA 22314-3428.

STATUS: Closed.

MATTERS TO BE CONSIDERED: 1. Merger Request Pursuant to Part 708b of NCUA's Rules and Regulations. Closed pursuant to exemption (8).

FOR FURTHER INFORMATION CONTACT: Mary Rupp, Secretary of the Board, Telephone: 703-518-6304.

Mary Rupp,
Board Secretary.

[FR Doc. 2011-21760 Filed 8-22-11; 4:15 pm]

BILLING CODE 7535-01-P